DEPARTMENT OF THE INTERIOR

National Park Service

Notice of Inventory Completion: U.S. Department of the Interior, National Park Service, Pecos National Historical Park, Pecos, NM

AGENCY: National Park Service, Interior.

ACTION: Notice.

Notice is here given in accordance with the Native American Graves Protection and Repatriation Act (NAGPRA), 25 U.S.C. 3003, of the completion of an inventory of human remains in the possession of the U.S. Department of the Interior, National Park Service, Pecos National Historical Park, Pecos, NM. The human remains were removed from within the boundaries of Pecos National Historical Park, San Miguel County, NM.

This notice is published as part of the National Park Service's administrative responsibilities under NAGPRA, 25 U.S.C. 3003 (d)(3). The determinations in this notice are the sole responsibility of the superintendent, Pecos National Historical Park.

A detailed assessment of the human remains was made by Pecos National Historical Park professional staff in consultation with representatives of the Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico & Utah; Ohkay Owingeh, New Mexico (formerly the Pueblo of San Juan); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of San Ildefonso, New Mexico; Pueblo of Sandia, New Mexico; Pueblo of Santa Ana, New Mexico; Pueblo of Santa Clara, New Mexico; Pueblo of Santo Domingo, New Mexico; Pueblo of Tesuque, New Mexico; Pueblo of Zia, New Mexico; Wichita and Affiliated Tribes (Wichita, Keechi, Waco & Tawakonie), Oklahoma; and Zuni Tribe of the Zuni Reservation, New Mexico. The Apache Tribe of Oklahoma; Pueblo of Pojoaque, New Mexico; Pueblo of San Felipe, New Mexico; Pueblo of Taos, New Mexico; and Ysleta Del Sur Pueblo of Texas were contacted for consultations but did not respond.

Between 1965 and 1980, human remains representing a minimum of 46 individuals were removed from Site LA 625 (Pecos Pueblo and the Pecos Mission Church and Convento Complex), in San Miguel County, NM, by park visitors. The human remains were picked up along the main trail through the site at various times and turned in to park staff at the Pecos National Historical Park Visitor Center. No known individuals were identified. No associated funerary objects are present.

Between 1966 and 1970, human remains representing a minimum of 78 individuals were removed from Site LA 625 in San Miguel County, NM, by National Park Service archeologists Jean Pinkly and Alden Hayes. No known individuals were identified. No associated funerary objects are present.

Between 1969 and 1970, human remains representing a minimum of one individual were removed from Site LA 625 in San Miguel County, NM, by University of Nebraska archeologist James Gunnerson. No known individual was identified. No associated funerary objects are present.

Between 1972 and 1976, human remains representing a minimum of eight individuals were removed from Site LA 625 in San Miguel County, NM, by National Park Service stabilization crews. No known individuals were identified. No associated funerary objects are present.

In 1977, human remains representing a minimum of 16 individuals were removed from Site LA 625 in San Miguel County, NM, by National Park Service archeologist Larry Nordby. The human remains were discovered in the back-dirt from the Pecos Mission 18th century church floor excavations. No known individuals were identified. No associated funerary objects are present.

In 1983, human remains representing a minimum of two individuals were removed from Site LA 625 in San Miguel County, NM, by National Park Service archeologist Larry Nordby during the visitor trail construction project. No known individuals were identified. No associated funerary objects are present.

In 1985, human remains representing a minimum of one individual were removed from Site LA 625 in San Miguel County, NM, by National Park Service archeologist Gary Matlock. The remains were discovered protruding from the wall in a passageway in the Pecos Mission Convento. No known individual was identified. No associated funerary objects are present.

The main occupation period of Pecos Pueblo is between A.D. 1325 and 1700. In 1838, the few remaining Pecos Pueblo residents emigrated from the pueblo to the Pueblo of Jemez, New Mexico. The Mission Church and Convento Complex was in use between A.D. 1625 and 1829. The last documented use of the church was in 1829.

In 1976, human remains representing a minimum of one individual were removed from Site LA 14154 (Hoagland's Haven) in San Miguel County, NM, by National Park Service archeologist Larry Nordby. Site LA 14154 was occupied A.D. 1475-1700, and is comprised of two one-room structures of which only the wide masonry foundations remain. No known individual was identified. No associated funerary objects are present.

Officials of Pecos National Historical Park have determined that, pursuant to 25 U.S.C. 3001 (9-10), the human remains described above represent the physical remains of 153 individuals of Native American ancestry. Because the biological evidence is inconclusive for most of the individuals, the determination is based on multiple lines of evidence, including physical anthropology, provenience of the remains, history of the site, tribal consultation, and oral history. Lastly, officials of Pecos National Historical Park have determined that, pursuant to 25 U.S.C. 3001 (2), a relationship of shared group identity cannot reasonably be traced between the Native American human remains and any present-day Indian tribe.

The Native American Graves Protection and Repatriation Review Committee (Review Committee) is responsible for recommending specific actions for disposition of culturally unidentifiable human remains. In January 2009, Pecos National Historical Park requested that the Review Committee recommend disposition of the 153 culturally unidentifiable human remains to the Pueblo of Jemez, New Mexico, because the human remains were found within the tribe's aboriginal and historical territory. The Review Committee considered the proposal at its May 23 - 24, 2009 meeting, and recommended disposition of the human remains to the Pueblo of Jemez, New Mexico.

A September 16, 2009, letter from the Designated Federal Officer, writing on behalf of the Secretary of the Interior, transmitted the authorization for the park to effect disposition of the physical remains of the culturally unidentifiable individuals to the Pueblo of Jemez, New Mexico, contingent on the publication of a Notice of Inventory Completion in the Federal Register. This notice fulfills that requirement.

Representatives of any other Indian tribe that believes itself to be culturally affiliated with the human remains should contact Kathy Billings, superintendent, Pecos National Historical Park, PO Box 418, Pecos, NM 87552, telephone (505) 757-7201, before December 14, 2009. Disposition of the human remains to the Pueblo of Jemez, New Mexico may proceed after that date if no additional claimants come forward.

Pecos National Historical Park is responsible for notifying the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Navajo Nation, Arizona, New Mexico & Utah; Ohkay Owingeh, New Mexico (formerly the Pueblo of San Juan); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Wichita and Affiliated Tribes (Wichita, Keechi, Waco & Tawakonie), Oklahoma; Ysleta del Sur Pueblo of Texas; and Zuni Tribe of the Zuni Reservation, New Mexico that this notice has been published.

Dated: October 22, 2009.
Sherry Hutt,
Manager, National NAGPRA Program.

[FR Doc. E9-27238 Filed 11-12-09; 8:45 am]

BILLING CODE 4312-50-S